DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

Evaluation of the CMHS/CSAT Collaborative Program on Homeless Families: Women with Psychiatric, Substance Use, Or Co-Occurring Disorders and Their Dependent Children, Phase II—(OMB No. 0930-0223, Revision)—SAMHSA's Center for Mental Health Services and Center for Substance Abuse Treatment, through a set of cooperative agreements, are conducting a longitudinal, multi-site evaluation study assessing mental health, substance abuse, and trauma interventions received by homeless mothers with psychiatric, substance use, or co-occurring disorders and their dependent children. The study will advance knowledge on appropriate and effective approaches to improving families' residential stability, overall functioning, and decreased risk for violence.

SAMHSA currently has OMB approval for data collection from approximately 1,600 participants recruited from eight sites. At each site, a documented treatment intervention is tested in comparison to an alternative treatment condition. Participants are interviewed at baseline (within two weeks of entering a program) as well as three additional times (3 months after program entry, 9 months after program entry, and 15 months after program entry). Trained interviewers administer the interviews to participating mothers. Information on the children is obtained from the mother. This revision will add several questions to the 15-month interview to determine awareness and use of the Earned Income and Child Tax Credits.

Key outcomes for the mothers are increased residential stability, decreased substance use, decreased psychological distress, improved mental health functioning, increased trauma recovery, improved health, improved functioning as a parent, and decreased personal violence. Outcomes for the children are reduced emotional/behavioral problems and improved school attendance.

Approval is also being sought for a coordinated set of interviews assessing the key ingredients of each program will supplement the participant data collection during the baseline timeframe. The purpose of the program ingredients interviews, administered in a one-time case study protocol format, is to systematically describe each treatment and comparison intervention with the same set of variables at comparable points in treatment. This case study protocol will examine the intervention and comparison program models, staffing, structure, goals, and services, and will include vignettes describing actual families referred to the programs. In-person interviews of program directors, program line staff, and consumers will be administered in either focus group format or through one-on-one sessions. The case study protocol will be geared towards obtaining a standard set of information from each site. If some of these data are available from other sources or do not apply at a particular site, the protocol will be shortened.

The estimated response burden is as follows:

Instrument | Number of respondents | Responses per respondent | Burden per response (hrs) | Total burden hours
Currently—Approved Client Instrument (3-yr. annual average) | 2,280 |  |  | 2,503
Additional questions—15-month interview | 1,450 ¹ | 1 | .05 | 73
Pre-Site Visit Questions: Program Managers | 22 | 1 | 2.0 | 44
Pre-Site Visit Questions: Program Line Staff | 14 | 1 | 1.0 | 14
Interview: Program Managers | 22 | 1 | 1.0 | 22
Focus Group: Program Line Staff | 100 | 1 | 1.67 | 167
Interview: Unique Staff | 22 | 1 | 1.0 | 22
Vignette Interview: Senior Staff | 22 | 1 | 1.0 | 22
Focus Group: Consumers | 200 | 1 | 1.4 | 280
Total | 2,616 |  |  | 3,147
¹ Assumes 150 interviews will be completed prior to receipt of approval for the additional questions.

Written comments and recommendations concerning the proposed information collection should be sent within 30 days of this notice to: Allison Herron Eydt, Human Resources and Housing Branch, Office of Management and Budget, New Executive Office Building, Room 10235, Washington, DC 20503; due to potential delays in OMB's receipt and processing of mail sent through the U.S. Postal Service, respondents are encouraged to submit comments by fax to: 202-395-6974.

Dated: June 27, 2003.
Anna Marsh,
Acting Executive Officer, SAMHSA.

[FR Doc. 03-17020 Filed 7-3-03; 8:45 am]

BILLING CODE 4162-20-P